DEPARTMENT OF AGRICULTURE

Natural Resources Conservation Service

Task Force on Agricultural Air Quality; Meeting

AGENCY: Natural Resources Conservation Service, USDA

ACTION: Notice of meeting.

SUMMARY: The Task Force on Agricultural Air Quality will meet to discuss critical air quality issues in relation to agriculture. The emphasis of the meeting will be on obtaining a greater understanding about the relationship between agricultural production and air quality. The meeting is open to the public.

DATES: The meeting will convene Wednesday, May 1, 2002, at 9 a.m., and continue until 4 p.m. The meeting will resume Thursday, May 2, 2002, and continue from 9 a.m. to 4 p.m. Written material and requests to make oral presentations should reach the Natural Resources Conservation Service, at the address below, on or before April 19, 2002.

ADDRESSES: On May 1, 2002, the meeting will be held in the Williamsburg Room in the Jamie L. Whitten Federal Building at 12th Street and Jefferson Dr., SW., Washington, DC 20250. On May 2, 2002, the meeting will be held in Room 333 at the Hall of States, 444 North Capitol Street, Washington, DC 20001. Written material and requests to make oral presentations should be sent to Beth Sauerhaft, USDA/NRCS, Post Office Box 2890, Room 6158, Washington, DC 20013. Due to the heightened security measures in place, submission of the names and affiliations for those planning to attend the meeting on May 1, 2002, will expedite entry into the Federal building.

FOR FURTHER INFORMATION CONTACT: Questions or comments should be directed to Beth Sauerhaft, Designated Federal Official; telephone: (202) 720-8578; fax: (202) 720-2646; e-mail: Beth.Sauerhaft@usda.gov.

SUPPLEMENTARY INFORMATION: Notice of this meeting is given under the Federal Advisory Committee Act, 5 U.S.C. App. 2. Additional information about the Task Force on Agricultural Air Quality, including any revised agendas for the May 1 and 2, 2002, meeting that occur after this Federal Register Notice is published, may be found on the World Wide Web at: http://www.nhq.nrcs.usda.gov/faca/aaqtf.html.

Draft Agenda of the May 1 and 2 Meeting

A. Welcome to Washington, DC

• Local officials

B. Approve minutes of the Phoenix, Arizona, January 16-17, 2002, AAQTF meeting

C. EPA Update

• EPA official—Expectations regarding regulation of agriculture

• National Academy of Sciences Scientific Assessment update

• Regional Planning Organizations update—potential impacts to agriculture

• Title V update

• Update on monitoring and speciation work across country

• Comprehensive Environmental Response, Compensation, and Liability Act; Emergency Planning and Community Right-to-Know Act update/discussion

D. Subcommittee Business

• Research Priorities and Oversight Subcommittee

• Emissions Factors Subcommittee

• Concentrated Animal Feeding Operation Subcommittee

• Voluntary/Incentive Based Program Subcommittee

• Follow-up Subcommittee

• Agricultural Burning Subcommittee

• Title V Subcommittee

• Monitoring Subcommittee

• Implementation Subcommittee

E. New Topics

• President's Global Climate Change Initiative

• Odor control and particulate capture/dispersion—windbreaks, other BMPs

• Iowa CAFO study

• Regulatory choices at the State level

F. Next Meeting, time/place

G. Public Input (Time will be reserved before lunch and at the close of each daily session to receive public comment. Individual presentations will be limited to 5 minutes).

Procedural

This meeting is open to the public. At the discretion of the Chair, members of the public may give oral presentations during the meeting. Persons wishing to make oral presentations should notify Beth Sauerhaft no later than April 19, 2002. If a person submitting material would like a copy distributed to each member of the committee in advance of the meeting, that person should submit 25 copies to Beth Sauerhaft no later than April 19, 2002.

Information on Services for Individuals With Disabilities

For information on facilities or services for individuals with disabilities or to request special assistance at the meeting, contact Beth Sauerhaft.

USDA prohibits discrimination in its programs and activities on the basis of race, color, national origin, gender, religion, age, sexual orientation, or disability. Additionally, statutes enforced by USDA also prohibit discrimination on the basis of political beliefs and marital or family status. (Not all prohibited bases apply to all programs). Persons with disabilities who require alternate means for communication of program information (Braille, large print, audio tape, etc.) should contact the USDA's Target Center at (202) 720-2000 (voice and TDD).

To file a complaint of discrimination to USDA, write to the Director, Office of Civil Rights, Room 326-W, Whitten Building, 1400 Independence Avenue, SW., Washington, DC 20250-9410; or call (202) 720-5964 (voice and TDD). The USDA is an equal opportunity provider and employer.

Signed in Washington, DC, on March 7, 2002.
Pearlie S. Reed,
Chief, Natural Resources Conservation Service.

[FR Doc. 02-7279 Filed 3-26-02; 8:45 am]

BILLING CODE 3410-16-P